FEDERAL COMMUNICATIONS COMMISSION

47 CFR Part 73

[DA 05-1859; MB Docket No. 04-404, RM-11098, RM-11233]

Radio Broadcasting Services; Cromwell and Maysville, OK

AGENCY: Federal Communications Commission.

ACTION: Proposed rule; dismissal.

SUMMARY: The Audio Division dismisses a Petition for Rule Making filed by Charles Crawford, requesting the allotment of Channel 251A at Maysville, Oklahoma, as its first local service. See 69 FR 65119, published November 10, 2004. The document also dismisses a counterproposal filed by Katherine Pyeatt, requesting the allotment of Channel 251A at Crowell, Oklahoma. The parties in this proceeding filed a withdrawal of their respective expression of interest pursuant to Section 1.420(j) of the Commission's rules. It is the Commission's policy to refrain from making a new allotment to a community absent a bona fide expression of interest.

ADDRESSES: Federal Communications Commission, 445 Twelfth Street, SW., Washington, DC 20554.

FOR FURTHER INFORMATION CONTACT: Rolanda F. Smith, Media Bureau, (202) 418-2180.

SUPPLEMENTARY INFORMATION: This is a synopsis of the Commission's Report and Order, MB Docket No. 04-404, adopted June 29, 2005, and released July 1, 2005. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20054, telephone 1-800-378-3160 or http://www.BCPIWEB.com. This document is not subject to the Congressional Review Act. (The Commission is, therefore, not required to submit a copy of this Report and Order to GAO, pursuant to the Congressional Review Act, see 5 U.S.C. 801(a)(1)(A) because the proposed rule was dismissed.

Federal Communications Commission.
John A. Karousos,
Assistant Chief, Audio Division, Media Bureau.

[FR Doc. 05-13738 Filed 7-12-05; 8:45 am]

BILLING CODE 6712-01-P